FEDERAL COMMUNICATIONS COMMISSION

Privacy Act of 1974; System of Records

AGENCY: Federal Communications Commission (FCC or Commission).

ACTION: Notice; one new Privacy Act system of records.

SUMMARY: Pursuant to the provisions of the Privacy Act of 1974, as amended, 5 U.S.C. 552a(e)(4), the FCC proposes to add a new system of records, FCC/WTB-7, “Remedy Action Response System “ (“RARS”). The FCC's Wireless Telecommunications Bureau (WTB) will use the records contained in FCC/WTB-7 to record and process requests from individuals, groups, and other entities who request technical help, i.e., technical questions and password requests, using the WTB's Internet-based computer applications—licensing and auction systems. Records in this system will be made available upon request for public inspection after redaction of information, which could identify the correspondent, i.e., name, telephone number, TIN, and e-mail address.

DATES: Any interested person may submit written comments concerning the routine uses of this system on or before September 3, 2002. Pursuant to Appendix I( 4)(e) to OMB Circular A-130, the FCC is asking the Office of Management and Budget (OMB), which has oversight responsibility under the Privacy Act, to grant a waiver of the 40 day review period by OMB, the House of Representatives, and the Senate for this system of records. This waiver will allow the FCC to begin using the RARS database system as quickly as possible to process requests from individuals, groups, and other entities for technical help using WTB's Internet-based computer applications—licensing and auction systems. The new System of Records shall be effective on September 3, 2002, unless the FCC receives comments that require a contrary determination. The Commission will publish a document in the Federal Register notifying the public if any changes are necessary. As required by 5 U.S.C. 552a(r) of the Privacy Act of 1974, as amended, and Appendix I(4)(c) to OMB Circular A-130, the FCC will submit the report of this System of Records to the Chair of the Committee on Government Reform and Oversight of the House of Representatives, to the Chair of the Committee on Government Affairs of the Senate, and to the Office of Management and Budget.

ADDRESSES: Address comments to Les Smith, Performance Evaluation and Record Management (PERM), Room 1-A804, Federal Communications Commission (FCC), 445 12th Street, SW, Washington, DC 20554, or via the Internet at lesmith@fcc.gov; or to Kim A. Johnson, Policy Analyst, Office of Information and Regulatory Affairs (OIRA), Office of Management and Budget (OMB), Docket Library, Room 10236, New Executive Office Building (NEOB), 725 17th Street, NW, Washington, DC 20503, or via the Internet at Kim_A._Johnson@omb.eop.gov.

FOR FURTHER INFORMATION CONTACT: Les Smith, Performance Evaluation and Records Management (PERM), Room 1-A804, Federal Communications Commission (FCC), 445 12th Street, SW, Washington, DC 20554, (202) 418-0217, or via the Internet at lesmith@fcc.gov; or Dorothy Conway , Wireless Telecommunications Bureau (WTB), Room 3-C306, Federal Communications Commission, (FCC), 445 12th Street, SW, Washington, DC 20554, (202) 202-418-7349, or via the Internet at dconway@fcc.gov.

SUPPLEMENTARY INFORMATION: As required by the Privacy Act of 1974, as amended, 5 U.S.C. 552a(e)(4), this document sets forth notice of the proposed new System of Records maintained by the FCC. This notice is a summary of more detailed information which may be viewed at the location given in the ADDRESSES section above. The purpose of the new FCC/WTB-7, “Remedy Action Request System” (“RARS”), is to enable the Wireless Telecommunications Bureau (WTB) to record and process requests from individuals, groups, or other entities for technical help, i.e., technical questions and password requests, using WTB's Internet-based computer applications—licensing and auction systems . Records in this system are available for public inspection after redaction of information, which could identify the correspondent, i.e., name, telephone number, TIN, and e-mail address. Records in this system will be made available upon request for public inspection after redaction of information, which could identify the correspondent, i.e., name, telephone number, TIN, and e-mail address. This notice meets the requirement documenting the proposed new System of Records that is to be added to the Systems of Records that the FCC maintains, and provides the public, Congress, and OMB an opportunity to comment.

FCC/WTB-7

SYSTEM NAME:

Remedy Action Request System (RARS).

SECURITY CLASSIFICATION:

This material has not received a security classification.

SYSTEM LOCATION:

Wireless Telecommunications Bureau (WTB), Federal Communications Commission (FCC), 445 12th Street, SW., Washington, DC 20554.

CATEGORIES OF INDIVIDUALS COVERED BY THE SYSTEM:

Individuals, groups, or other entities who are requesting help using the Universal Licensing System (ULS), Automated Auctions System (AAS), Antenna Registration System (ARS), Commission Registration System (CORES), and other subsystems included in, or as part of, these systems. These requests for help include, but are not limited to, paper, telephone, e-mail, and electronic submissions.

CATEGORIES OF RECORDS IN THE SYSTEM:

The records in the RARS system include information contained in a computer database and paper copies of inquiries and related supporting information, made by individuals or groups pertaining to the Wireless Telecommunications Bureau's (WTB) licensing and Auctions software.

The categories include:

1. Individuals who require technical and/or password help using the ULS, ARS, CORES, and related systems and subsystems. These records include the following: First name, last name, telephone number and extension, alternative telephone number and extension, fax number, e-mail address, operating system, web browser, FRN, and/or TIN.

2. Representatives of licensed entities who requiring technical and/or password help using the ULS, ARS, CORES, and related systems and subsystems. These records include the information: First name, last name, telephone number and extension, alternative telephone number and extension, fax number, e-mail address, employer/company/individual represented, operating system, web browser, FRN, and/or TIN.

3. Paper records include faxes of information from individuals and company representatives who are verifying information relative to their identity when requesting a password or reset of a password. This information includes first name, last name, contact telephone number, and FRN and/or TIN.

AUTHORITY FOR MAINTENANCE OF THE SYSTEM:

Sec. 151, 154, 206, 208, 225, 226, 227, 228, 255, 258, 301, 303, 309(e), 312, 362, 364, 386, 507 of the Communications Act of 1934, as amended, 47 U.S.C. 151, 154, 206, 208, 225, 226, 227, 228, 255, 258, 301, 303, 309(e), 312, 362, 364, 386, 507; sec. 504 and 508 of the Rehabilitation Act, 29 U.S.C. 794; and 47 CFR 1.711 et seq., 6.15 et seq., 7.15 et seq., and 64.604.

PURPOSE(S):

The WTB staff use the records in this system of records to record and process requests from individuals or groups for technical help, i.e., technical questions, password requests, etc., using WTB's Internet-based computer applications—licensing and auctions systems. This software is used internally by the WTB to ensure good customer service and problem resolution. Records in this system will be made available upon request for public inspection after redaction of information that could identify the correspondent, i.e., name, telephone number, TIN, and e-mail address.

ROUTINE USES OF RECORDS MAINTAINED IN THE SYSTEM, INCLUDING CATEGORIES OF USERS AND THE PURPOSES OF SUCH USES:

Information in this system of records may be disclosed:

1. Where there is an indication of a violation of a potential statute, regulation, rule, or order, records in this system may be referred to the appropriate Federal, state, or local agency responsible for investigating or prosecuting a violation or for enforcing or implementing the statute, rule, regulation, or order.

2. A record in this system may be disclosed to a request for information from a Federal, state, or local agency maintaining civil, criminal, or other relevant information or other pertinent information necessary to obtain information relevant to an investigation.

3. A record on an individual in this system of records may be disclosed to a Congressional office in response to an inquiry the individual has made to the Congressional office.

4. A record from this system of records may be disclosed to GSA and NARA for the purpose of records management inspections conducted under authority of 44 U.S.C. 2904 and 2906. Such disclosure shall not be used to make a determination about individuals.

In each of these cases, the FCC will determine whether disclosure of the records is compatible with the purpose for which the records were collected.

DISCLOSURE TO CONSUMER REPORTING AGENCIES:

These records will not be disclosed.

POLICIES AND PRACTICES FOR STORING, RETRIEVING, ACCESSING, RETAINING, AND DISPOSING OF RECORDS IN THE SYSTEM:

STORAGE:

Paper copies of records in this system of records are maintained in file folders and electronic files are located in computer databases on the FCC internal secured network.

RETRIEVABILITY:

A primary purpose of the system is to provide easy access to the information for internal FCC personnel and contractors. This also allows the development teams of the WTB software products to identify trends in user issues and problems. Records may be retrieved by searching electronically using a variety of parameters including: name, entity name, licensee, applicant or unlicensed individual, call sign, file number, problem type, FCC Registration Number (FRN), TIN, e-mail address, or subject matter. However, any personal information contained in these records, which is afforded confidentiality under 5 U.S.C. 552(b)(6), including an individual's name, address, e-mail address, telephone number, TIN, etc. will be redacted prior to the record's disclosure. Individual records may only be retrieved by authorized FCC personnel and contractors with a user account and password maintained in the Remedy system.

SAFEGUARDS:

1. A designated user ID and password and the FCC's internal network security structure control access to computer records. Computer systems are stored within secure areas.

2. Records are stored in locked cabinets, which are secured in the office at the close of the business day.

3. Records may be released to the public after redaction of any information that may be considered confidential under 5 U.S.C. 552(b)(6), including, but not limited to name, telephone number, e-mail address, or TIN.

4. Limited public access to certain records may be available via the Internet. This information includes the status of request, request ID number, and the agent's number who took the call or electronic request for support. Public users who have contacted WTB personnel via telephone, e-mail, or electronic submission may access the system to retrieve a status on the ticket assigned to their request. They will be given this ticket/request number generated by the Remedy Action Request System upon submission of a request. This number may be entered into the appropriate field on the FCC web site to check the status of the ticket. Only the status of that ticket will be released to the public by entering the ticket number—no personal or confidential information is available to the public.

5. Access to other records will only be available using the client application or web browser on the Commission wide area network utilizing a secured login ID and password.

6. The ability to enter and change individual records will be protected by passwords issued to WTB staff and contractors. Records will be protected from unauthorized changes by passwords and other computer security measures within the agency.

7. TINs reported to the agency as requested on appropriate systemic forms will not be available to the public. TINs will only be used when referencing contact information and to verify the caller's identity when requesting support or confidential password related requests.

8. Each caller (or e-mail request) will be given a unique ticket number generated by the RARS after calling or e-mailing the Technical Support Center. These identifiers will be used within the agency and by the public to obtain information on the status of the problem, issue, or request.

9. Within the agency, the collection of TINs is minimized and access to TINs will be available only to those persons whose jobs require such access (e.g., FCC staff and contractors responsible for password resets in the CORES system and/or requiring the information for licensing related issues). Whenever possible, the FRN will be used in place of the TIN when collecting information on the caller or e-mail requestor.

10. Data resident on network servers are backed-up daily to magnetic media. One week's worth of back-up tapes is stored on-site in fireproof safes. Each week, the previous week's backup tapes are sent to an off-site storage location. These tapes are kept for a minimum of eleven (11) years.

RETENTION AND DISPOSAL:

1. Records will be actively maintained as long as an individual utilizes the system or the records are purged and archived using date specific parameters.

2. Audits of inactive users in the system will occur regularly and, if no activity is shown for the contact person within eleven (11) years, the record will be purged and archived following FCC standard electronic record archiving procedures.

3. Paper records will be archived after being keyed or scanned into the system. The records are retained at the FCC and then destroyed in accordance with the appropriate records retention schedule.

4. Electronic records will be backed up on tape weekly and stored indefinitely at an off-site storage location.

SYSTEMS MANAGER(S) AND ADDRESS:

Chief, Wireless Telecommunications Bureau (WTB), Federal Communications Commission (FCC), 445 12th Street, SW., Washington, DC 20554.

NOTIFICATION PROCEDURE:

Address inquiries to the system manager. To identify a specific record please indicate first name and last name in addition to a unique identifier maintained in system, including, but not limited to telephone number, e-mail address, FRN and/or TIN for their record(s) to be located and identified. An individual requesting access must also follow FCC Privacy Act regulations regarding verification of identify and access records. See 47 CFR 0.554-0.555.

CONTESTING RECORD PROCEDURES:

Address inquiries to the system manager.

RECORD ACCESS PROCEDURES:

Only approved FCC personnel and/or contractors may access the records maintained in the system. Individuals who request access to records about themselves should contact the system manager, as indicated above. Individuals must furnish their first and last name in addition to a unique identifier maintained in system, including, but not limited to telephone number, e-mail address, FRN and/or TIN for their record(s) to be located and identified. An individual requesting access must also follow FCC Privacy Act regulations regarding verification of identify and access records. See 47 CFR 0.554-0.555.

RECORD SOURCE CATEGORIES:

WTB customers and their representatives requesting assistance with the WTB's Internet based computer licensing, auctions, and related systems and subsystems.

EXEMPTIONS CLAIMED FOR THE SYSTEM:

None.

Federal Communications Commission.

Marlene Dortch,
Secretary.

[FR Doc. 02-19470 Filed 7-31-02; 8:45 am]

BILLING CODE 6712-01-P